DEPARTMENT OF COMMERCE

International Trade Administration

Proposed Information Collection; Comment Request; Foreign-Trade Zone Applications

AGENCY: International Trade Administration, Department of Commerce.

ACTION: Notice.

SUMMARY: The Department of Commerce, as part of its continuing effort to reduce paperwork and respondent burden, invites the general public and other Federal agencies to take this opportunity to comment on continuing information collections, as required by the Paperwork Reduction Act of 1995.

DATES: Written comments must be submitted on or before January 25, 2016.

ADDRESSES: Direct all written comments to Jennifer Jessup, Departmental Paperwork Clearance Officer, Department of Commerce, Room 6616, 14th and Constitution Avenue NW., Washington, DC 20230 (or via the Internet at JJesup@doc.gov).

FOR FURTHER INFORMATION CONTACT: Requests for additional information or copies of the information collection instrument and instructions should be directed to Christopher J. Kemp, Department of Commerce, Office of Foreign-Trade Zones, 14th and Constitution Avenue NW., Washington, DC 20230, (202) 482-0862, or Christopher.Kemp@trade.gov

SUPPLEMENTARY INFORMATION:

I. Abstract

The Foreign-Trade Zone Application is the vehicle by which individual firms or organizations apply for foreign-trade zone (FTZ) status, for subzone status, production authority, modifications of existing zones, or for waivers. The FTZ Act and Regulations (19 U.S.C. 81b and 81f; 15 CFR 400.21-25, 43(f)) set forth the requirements for applications and other requests to the FTZ Board. The Act and Regulations require that applications for new or modified zones contain information on facilities, financing, operational plans, proposed production operations, need for FTZ authority, and economic impact, where applicable. Any request involving production authority requires specific information on the foreign status components and finished products involved. Applications for production activity can involve issues related to domestic industry and trade policy impact. Such applications must include specific information on the customs-tariff related savings that result from zone procedures and the economic consequences of permitting such savings. The FTZ Board needs complete and accurate information on the proposed operation and its economic effects because the Act and Regulations authorize the Board to restrict or prohibit operations that are detrimental to the public interest. The Regulations (15 CFR 400.43(f)) also require specific information for applications requesting waivers by parties impacted by 400.43(d). This information is necessary to assess the likelihood of the proposed activity resulting in a violation of the the uniform treatment provisions of the FTZ Act and Regulations.

II. Method of Collection

U.S. firms or organizations submit applications in paper format along with an electronic copy to the Office of Foreign-Trade Zones.

III. Data

OMB Control Number: 0625-0139.

Form Number: N/A.

Type of Review: Regular submission.

Affected Public: State, local, or tribal governments or not-for-profit institutions applying for foreign-trade zone status, for subzone status, modification of existing zones, production authority or for waivers.

Estimated Number of Respondents: 248.

Estimated Time Per Response: 9 to 131 hours (depending on type of application).

Estimated Total Annual Burden Hours: 3,128.

Estimated Total Annual Cost to Public: $141,388.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 19, 2015.
Glenna Mickelson,
Management Analyst, Office of the Chief Information Officer.

[FR Doc. 2015-29915 Filed 11-24-15; 8:45 am]

BILLING CODE 3510-DS-P